DEPARTMENT OF ENERGY

Bonneville Power Administration

Transmission Policy-Level Environmental Impact Statement

AGENCY: Bonneville Power Administration (BPA), Department of Energy (DOE).

ACTION: Notice of termination of intent to prepare an Environmental Impact Statement (EIS).

SUMMARY: On December 22, 2003, BPA published in the Federal Register a Notice of Intent (NOI) to prepare an EIS (Volume 68, Number 245, Page 71101-71102). The NOI announced BPA's intent to prepare an EIS in conjunction with its exploration of a broad range of potential transmission policies. At the time the NOI was issued, BPA decided it would reevaluate the need for this Transmission Policy-Level EIS at the conclusion of the public scoping process under the National Environmental Policy Act (NEPA), based on public comments received and internal considerations. BPA has decided that it is not necessary to proceed with preparation of the Transmission Policy-Level EIS at this time, and therefore BPA is issuing this notice of termination of intent to prepare the Transmission Policy-Level EIS.

FOR FURTHER INFORMATION CONTACT: Mike Mayer or Rick Yarde, NEPA project managers, Bonneville Power Administration—KEC-4, PO Box 3621, Portland, Oregon 97208-3621; toll-free telephone number 1-800-282-3713; fax number 503-230-5699; e-mail addresses msmayer@bpa.gov or rryarde@bpa.gov.

SUPPLEMENTARY INFORMATION: BPA has been considering the voluntary adoption of a comprehensive policy for its transmission business. At the time the NOI was issued, the EIS thus was proposed as a policy-level document to assist in decision-making for the planning, construction, operation, marketing, and other transmission-related efforts of BPA's Transmission Business Line. Also at that time, BPA decided it would reevaluate the need for this EIS at the conclusion of the public scoping process under NEPA, based on public comments received and internal considerations. Subsequent to publication of the NOI, BPA entered the formal scoping period, informing the public of the proposed Transmission Policy-Level EIS via newspaper notices, Internet postings, regular BPA publications, a focused mailing, and public meetings. The public meetings were held in Portland, Oregon; Seattle and Spokane, Washington; Boise, Idaho; and Helena, Montana, in January and February 2004. Once the meetings had concluded, BPA published the comments received, as well as a Public Meeting Scoping Summary, on the project Internet page on March 19, 2004. In addition to comments noted during the public meetings, BPA received approximately 44 written statements. BPA continued to accept comments on the proposed Transmission Policy-Level EIS until March 31, 2004. Once scoping ended, BPA revised the Scoping Summary to reflect all comments received, and republished the summary on April 7, 2004.

Based on the results of the public scoping conducted for the Transmission Policy-Level EIS and internal considerations such as the current and most recently projected activities of BPA's Transmission Business Line and budget issues, BPA has decided that continued consideration of a comprehensive policy for BPA's transmission business is not in the best interests of the agency at this time. As a result, it is no longer necessary to proceed with preparation of the Transmission Policy-Level EIS. Therefore, BPA is issuing this notice of termination of intent to prepare the Transmission Policy-Level EIS.

Information gathered from the Transmission Policy-Level EIS public scoping process will be considered in a separate NEPA process being undertaken by BPA to review its Business Plan Environmental Impact Statement (DOE/EIS-0183, June 1995) which since its completion has acted as a comprehensive analysis of the agency's business practices.

Issued in Portland, Oregon, on November 15, 2004.
Stephen J. Wright,
Administrator and Chief Executive Officer.

[FR Doc. 04-25911 Filed 11-22-04; 8:45 am]

BILLING CODE 6450-01-P